NATIONAL SCIENCE FOUNDATION

Sunshine Act Meetings

The National Science Board's ad hoc Committee on Elections hereby gives notice of the scheduling of a teleconference for the transaction of National Science Board business, pursuant to the National Science Foundation Act and the Government in the Sunshine Act.

TIME AND DATE: April 26, 2022, from 4:00-4:30 p.m. EDT.

PLACE: This meeting will be held by teleconference through the National Science Foundation.

STATUS: Closed.

MATTERS TO BE CONSIDERED: Committee Chair's opening remarks; discussion of additional information proposed for the Board book associated with the Chair and Vice Chair elections related to Board members who are eligible for reappointment.

CONTACT PERSON FOR MORE INFORMATION: Point of contact for this meeting is: Andrea Rambow, arambow@nsf.gov, 703-292-7000. You may find meeting updates at https://www.nsf.gov/nsb/meetings/index.jsp#up.

Chris Blair,
Executive Assistant to the National Science Board Office.

[FR Doc. 2022-08764 Filed 4-20-22; 4:15 pm]

BILLING CODE 7555-01-P